DEPARTMENT OF THE INTERIOR

Office of Surface Mining Reclamation and Enforcement

Notice of Proposed Information Collection

AGENCY: Office of Surface Mining Reclamation and Enforcement, Interior.

ACTION: Notice and request for comments for 1029-0091 and 1029-0118.

SUMMARY: In compliance with the Paperwork Reduction Act of 1995, the Office of Surface Mining Reclamation and Enforcement (OSM) is announcing its intention to request continued approval for the collections of information under 30 CFR Parts 750 and 842 which relate to surface coal mining and reclamation operations on Indian Lands; and which allows the collection and processing of citizen complaints and requests for inspection, respectively.

DATES: Comments on the proposed information collections must be received by April 1, 2008, to be assured of consideration.

ADDRESSES: Comments may be mailed to John A. Trelease, Office of Surface Mining Reclamation and Enforcement, 1951 Constitution Ave., NW., Room 202—SIB, Washington, DC 20240. Comments may also be submitted electronically to jtrelease@osmre.gov.

FOR FURTHER INFORMATION CONTACT: To receive a copy of the information collection requests contact John A. Trelease, at (202) 208-2783. You may also review the collection requests at http://www.reginfo.gov/public/do/PRAMain.

SUPPLEMENTARY INFORMATION: The Office of Management and Budget (OMB) regulations at 5 CFR 1320, which implementing provisions of the Paperwork Reduction Act of 1995 (Pub. L. 104-13), require that interested members of the public and affected agencies have an opportunity to comment on information collection and recordkeeping activities [see 5 CFR 1320.8(d)]. This notice identifies information collections that OSM will be submitting to OMB for approval. These collections are contained in: (1) 30 CFR Part 750, Requirements for surface coal mining and reclamation operations on Indian Lands; and (2) 30 CFR Part 842, Federal inspections and monitoring. OSM will request a 3-year term of approval for each information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection request to OMB.

The following information is provided for the information collection: (1) Title of the information collection; (2) OMB control number; (3) summary of the information collection activity; and (4) frequency of collection, description of the respondents, estimated total annual responses, and the total annual reporting and recordkeeping burden for the collection of information.

Title: 30 CFR Part 750—Requirements for surface coal mining and reclamation operations on Indian Lands.

OMB Control Number: 1029-0091.

Summary: Operators who conduct or propose to conduct surface coal mining and reclamation operations on Indian lands must comply with the requirements of 30 CFR 750 pursuant to Section 710 of SMCRA.

Bureau Form Number: None.

Frequency of Collection: Once.

Description of Respondents: Applicants for coal mining permits on Indian lands.

Total Annual Responses: 1.

Total Annual Burden Hours: 1,300.

Total Annual Non-Wage Burden: $15,000.

Title: 30 CFR Part 842—Federal inspections and monitoring.

OMB Control Number: 1029-0118.

Summary: For purposes of information collection, this part establishes the procedures for any person to notify the Office of Surface Mining in writing of any violation that may exist at a surface coal mining operation. The information will be used to investigate potential violations of the Act or applicable State regulations.

Bureau Form Number: None.

Frequency of Collection: Once.

Description of Respondents: Citizens, State governments.

Total Annual Responses: 44.

Total Annual Burden Hours: 451 hours.

Dated: January 24, 2008.
John R. Craynon,
Chief, Division of Regulatory Support.

[FR Doc. 08-449 Filed 1-31-08; 8:45 am]

BILLING CODE 4310-05-M